SECURITIES AND EXCHANGE COMMISSION

[Release No. IC-27739]

Notice of Applications for Deregistration Under Section 8(f) of the Investment Company Act of 1940

February 23, 2007.

The following is a notice of applications for deregistration under section 8(f) of the Investment Company Act of 1940 for the month of February, 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on March 20, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Eagle Growth Shares Investing Programs [File No. 811-2018]

Summary: Applicant, a unit investment trust, seeks an order declaring that it has ceased to be an investment company. On November 27, 2001, applicant made a liquidating distribution to its shareholders, based on net asset value. Expenses of $2,145 incurred in connection with the liquidating distribution were paid by Baxter Financial Corp., applicant's sponsor, and Eagle Growth Shares, Inc.

Filing Dates: The application was filed on October 20, 2006, and amended on January 26, 2007.

Applicant's Address: Federated Investors Tower, 5800 Corporate Dr., Pittsburgh, PA 15237-1200 North Federal Hwy., Suite 424, Boca Raton, FL 33432.

Credit Suisse Institutional Fixed Income Fund, Inc. [File No. 811-8917]

Credit Suisse Small Cap Growth Fund, Inc. [File No. 811-7909]

Credit Suisse Fixed Income Fund [File No. 811-5039]

Summary: Each applicant seeks an order declaring that it has ceased to be an investment company. Between November 29, 2006 and December 22, 2006, each applicant made a liquidating distribution to its shareholders, based on net asset value. Expenses of $8,500 incurred in connection with each liquidation were paid by Credit Suisse Asset Management, LLC, investment adviser to each applicant. Applicants have retained cash in the amount of $32,472, $22,334 and $106,421, respectively, to cover certain additional outstanding liabilities.

Filing Date: The applications were filed on February 7, 2007.

Applicants' Address: c/o Credit Suisse Asset Management, LLC, Eleven Madison Ave., New York, NY 10010.

Federated Municipal High Yield Advantage Fund, Inc. [File No. 811-4533]

Summary: Applicant seeks an order declaring that it has ceased to be an investment company. On November 10, 2006, applicant transferred its assets to Federated Municipal High Yield Advantage Fund, a portfolio of Federated Municipal Securities Income Trust, based on net asset value. Expenses of $86,399 incurred in connection with the reorganization were paid by applicant and the acquiring fund.

Filing Date: The application was filed on January 16, 2007.

Applicant's Address: Federated Investors Tower, 5800 Corporate Dr., Pittsburgh, PA 15237-7010.

Pioneer Tax Qualified Dividend Fund [File No. 811-21459]

Pioneer International Income and Growth Trust [File No. 811-21535]

Pioneer Municipal High Yield Trust [File No. 811-21717]

Summary: Each applicant, a closed-end investment company, seeks an order declaring that it has ceased to be an investment company. Applicants have never made a public offering of their securities and do not propose to make a public offering or engage in business of any kind.

Filing Date: The applications were filed on February 6, 2007.

Applicants' Address: 60 State St., Boston, MA 02109.

Liberty All-Star Mid-Cap Fund [File No. 811-21733]

Summary: Applicant, a closed-end investment company, seeks an order declaring that it has ceased to be an investment company. Applicant has never made a public offering of its securities and does not propose to make a public offering or engage in business of any kind.

Filing Dates: The application was filed on December 29, 2006, and amended on February 2, 2007.

Applicant's Address: 100 Federal St., Boston, MA 02110.

Ameritrade Automatic Common Exchange Security Trust [File No. 811-9319]

Summary: Applicant, a closed-end investment company, seeks an order declaring that it has ceased to be an investment company. Applicant has never made a public offering of its securities and does not propose to make a public offering or engage in business of any kind.

Filing Dates: The application was filed on December 5, 2006, and amended January 31, 2007.

Applicant's Address: Attn: Heather Sahrbeck, Goldman, Sachs & Co., 85 Broad St., New York, NY 10004.

Pioneer AllWeather Fund LLC [File No. 811-21408]

Summary: Applicant, a closed-end investment company, seeks an order declaring that it has ceased to be an investment company. Applicant has never made a public offering of its securities and does not propose to make a public offering or engage in business of any kind.

Filing Dates: The application was filed on October 27, 2004, and amended on February 6, 2007.

Applicant's Address: 60 State St., Boston, MA 02109.

For the Commission, by the Division of Investment Management, pursuant to delegated authority.
Florence E. Harmon,
Deputy Secretary.

[FR Doc. E7-3555 Filed 2-28-07; 8:45 am]

BILLING CODE 8010-01-P